DEPARTMENT OF ENERGY

Federal Energy Regulatory Commission

Combined Notice of Filings #1

Take notice that the Commission received the following Complaints and Compliance filings in EL Dockets:

Docket Numbers: EL24-70-000; QF14-85-008; QF14-87-005; QF14-90-003; QF14-93-004; QF14-95-003; QF14-99-004; QF14-102-003; QF14-112-004; QF14-125-003; QF15-324-004; QF15-1025-003; QF18-1511-001.

Applicants: PRELUDE LLC, Thomas Mattson and EDWARD J. DOSTAL v. BASIN ELECTRIC POWER COOPERATIVE, ROSEBUD ELECTRIC COOPERATIVE, INC., GRAND ELECTRIC COOPERATIVE, INC.

Description: Petition for Enforcement of Prelude LLC, Thomas Mattson and Edward J. Dostal v. Basin Electric Power Cooperative, Rosebud Electric Cooperative, Inc., Grand Electric Cooperative, Inc.

Filed Date: 2/6/24.

Accession Number: 20240206-5126.

Comment Date: 5 p.m. ET 2/27/24.

Docket Numbers: EL24-71-000.

Applicants: Southern California Edison Company.

Description: Petition for Declaratory Order of Southern California Edison Company.

Filed Date: 2/7/24.

Accession Number: 20240207-5128.

Comment Date: 5 p.m. ET 3/8/24.

Take notice that the Commission received the following electric rate filings:

Docket Numbers: ER14-2140-009; ER14-2141-009.

Applicants: Selmer Farm, LLC, Mulberry Farm, LLC.

Description: Supplement to August 27, 2020, Updated Market Power Analysis, et al. of the Southeast MBR Sellers.

Filed Date: 11/20/23.

Accession Number: 20231120-5077.

Comment Date: 5 p.m. ET 2/29/24.

Docket Numbers: ER15-632-013; ER15-634-013; ER14-2939-011; ER15-2728-013; ER14-2140-012; ER15-1952-010; ER14-2466-014; ER14-2465-014; ER14-2141-012.

Applicants: Selmer Farm, LLC, RE Columbia Two LLC, RE Camelot LLC, Pavant Solar LLC, Mulberry Farm, LLC, Maricopa West Solar PV, LLC, Imperial Valley Solar Company (IVSC) 2, LLC, Cottonwood Solar, LLC, CID Solar, LLC.

Description: Supplement to March 3, 2022, Notice of Non-Material Change in Status of CID Solar, LLC, et al.

Filed Date: 11/20/23.

Accession Number: 20231120-5227.

Comment Date: 5 p.m. ET 2/29/24.

Docket Numbers: ER15-1471-010; ER15-632-010; ER16-915-003; ER15-634-010; ER15-1672-009; ER10-2861-008; ER19-2287-001; ER16-2010-004; ER14-2939-008; ER15-2728-010; ER19-2294-001; ER14-2140-010; ER12-1308-011; ER15-1952-008; ER16-711-007; ER14-2466-011; ER14-2465-011; ER14-2141-010; ER16-2561-004; ER13-1504-009; ER19-2305-001.

Applicants: Valencia Power, LLC, SWG Arapahoe, LLC, Sunflower Wind Project, LLC, Selmer Farm, LLC, RE Columbia Two LLC, RE Camelot LLC, Pio Pico Energy Center, LLC, Pavant Solar LLC, Palouse Wind, LLC, Mulberry Farm, LLC, Mesquite Power, LLC, Maricopa West Solar PV, LLC, Imperial Valley Solar Company (IVSC) 2, LLC, Hancock Wind, LLC, Goal Line L.P., Fountain Valley Power, L.L.C., Evergreen Wind Power II, LLC, Cottonwood Solar, LLC, Comanche Solar PV, LLC, CID Solar, LLC, Blue Sky West, LLC.

Description: Supplement to August 28, 2020, Notice of Non-Material Change in Status of Blue Sky West, LLC, et. al.

Filed Date: 11/20/23.

Accession Number: 20231120-5224.

Comment Date: 5 p.m. ET 2/28/24.

Docket Numbers: ER15-1471-011; ER15-632-011; ER16-915-004; ER15-634-011; ER10-2721-010; ER15-1672-010; ER10-2861-009; ER19-2287-002; ER16-2010-005; ER14-2939-009; ER10-1874-012; ER19-9-006; ER15-2728-011; ER19-2294-002; ER14-2140-011; ER12-1308-012; ER15-1952-009; ER16-711-008; ER14-2466-012; ER14-2465-012; ER14-2141-011; ER16-2561-005; ER13-1504-010; ER19-2305-002.

Applicants: Valencia Power, LLC, SWG Arapahoe, LLC, Sunflower Wind Project, LLC, Selmer Farm, LLC, RE Columbia Two LLC, RE Camelot LLC, Pio Pico Energy Center, LLC, Pavant Solar LLC, Palouse Wind, LLC, Mulberry Farm, LLC, Mesquite Power, LLC, Maricopa West Solar PV, LLC, Imperial Valley Solar Company (IVSC) 2, LLC, Hancock Wind, LLC, Goal Line L.P., Fountain Valley Power, L.L.C., Evergreen Wind Power II, LLC, Cottonwood Solar, LLC, Comanche Solar PV, LLC, CID Solar, LLC, Blue Sky West, LLC.

Description: Supplement to January 19, 2021, Notice of Non-Material Change in Status of Blue Sky West, LLC, et. al.

Filed Date: 11/20/23.

Accession Number: 20231120-5236.

Comment Date: 5 p.m. ET 2/29/24.

Docket Numbers: ER15-1471-012; ER15-632-014; ER16-915-005; ER15-634-014; ER15-1672-011; ER10-2861-010; ER19-2287-004; ER16-2010-006; ER14-2939-012; ER10-1874-014; ER19-9-008; ER15-2728-014; ER19-2294-004; ER14-2140-013; ER12-1308-013; ER15-1952-011; ER16-711-010; ER14-2466-015; ER14-2465-015; ER14-2141-013; ER16-2561-006; ER13-1504-011; ER19-2305-004; ER10-2721-012.

Applicants: Valencia Power, LLC, SWG Arapahoe, LLC, Sunflower Wind Project, LLC, Selmer Farm, LLC, RE Columbia Two LLC, RE Camelot LLC, Pio Pico Energy Center, LLC, Pavant Solar LLC, Palouse Wind, LLC, Mulberry Farm, LLC, Mesquite Power, LLC, Maricopa West Solar PV, LLC, Imperial Valley Solar Company (IVSC) 2, LLC, Hancock Wind, LLC, Goal Line L.P., Fountain Valley Power, L.L.C., Evergreen Wind Power II, LLC, Cottonwood Solar, LLC, Comanche Solar PV, LLC, CID Solar, LLC, Blue Sky West, LLC.

Description: Supplement to August 1, 2022, Notice of Change in Status of Blue Sky West, LLC, et. al.

Filed Date: 11/20/23.

Accession Number: 20231120-5222.

Comment Date: 5 p.m. ET 2/29/24.

Docket Numbers: ER24-226-002.

Applicants: Evergy Missouri West, Inc., Evergy Metro, Inc., Southwest Power Pool, Inc.

Description: Report Filing: Evergy Metro, Inc. submits tariff filing per: Evergy Metro, Inc. and Evergy Missouri West, Inc.—Supplemental Filing to be effective December 27, 2023.

Filed Date: 2/6/24.

Accession Number: 20240206-5036.

Comment Date: 5 p.m. ET 2/27/24.

Docket Numbers: ER24-248-000.

Applicants: The Potomac Edison Company, PJM Interconnection, L.L.C.

Description: Refund Report: PJM Interconnection, L.L.C. submits tariff filing per 35.19a(b): Potomac Edison submits Refund Report in Docket No. ER24-248 to be effective N/A.

Filed Date: 2/8/24.

Accession Number: 20240208-5078.

Comment Date: 5 p.m. ET 2/29/24.

Docket Numbers: ER24-706-001.

Applicants: Northern Orchard Solar PV, LLC.

Description: Tariff Amendment: Market Based Rate to be effective 2/19/2024.

Filed Date: 2/7/24.

Accession Number: 20240207-5112.

Comment Date: 5 p.m. ET 2/28/24.

Docket Numbers: ER24-707-001.

Applicants: Quartz Solar, LLC.

Description: Tariff Amendment: Market Based Rate to be effective 2/19/2024.

Filed Date: 2/7/24.

Accession Number: 20240207-5105.

Comment Date: 5 p.m. ET 2/28/24.

Docket Numbers: ER24-1209-000.

Applicants: Arizona Public Service Company.

Description: Petition for Limited Waiver of Arizona Public Service Company.

Filed Date: 2/1/24.

Accession Number: 20240201-5258.

Comment Date: 5 p.m. ET 2/22/24.

Docket Numbers: ER24-1210-000.

Applicants: Public Service Company of New Hampshire.

Description: § 205(d) Rate Filing: Related Facilities Agreement—NECEC Transmission LLC to be effective 2/9/2024.

Filed Date: 2/8/24.

Accession Number: 20240208-5043.

Comment Date: 5 p.m. ET 2/29/24.

Docket Numbers: ER24-1211-000.

Applicants: Ameren Transmission Company of Illinois.

Description: § 205(d) Rate Filing: ATXI—Joint Operating Agreement to be effective 4/9/2024.

Filed Date: 2/8/24.

Accession Number: 20240208-5045.

Comment Date: 5 p.m. ET 2/29/24.

Docket Numbers: ER24-1212-000.

Applicants: PJM Interconnection, L.L.C.

Description: § 205(d) Rate Filing: Original NSA, Service Agreement No. 7191; AF1-086 to be effective 4/9/2024.

Filed Date: 2/8/24.

Accession Number: 20240208-5057.

Comment Date: 5 p.m. ET 2/29/24.

Docket Numbers: ER24-1213-000.

Applicants: California Independent System Operator Corporation.

Description: § 205(d) Rate Filing: 2024-02-08 Tariff Amendment—Postpone 2024 Interconnection Request Window to be effective 3/31/2024.

Filed Date: 2/8/24.

Accession Number: 20240208-5070.

Comment Date: 5 p.m. ET 2/29/24.

Docket Numbers: ER24-1214-000.

Applicants: Alabama Power Company, Georgia Power Company, Mississippi Power Company.

Description: § 205(d) Rate Filing: Alabama Power Company submits tariff filing per 35.13(a)(2)(iii: Shortleaf Solar LGIA Filing to be effective 1/30/2024.

Filed Date: 2/8/24.

Accession Number: 20240208-5077.

Comment Date: 5 p.m. ET 2/29/24.

Docket Numbers: ER24-1215-000.

Applicants: PJM Interconnection, L.L.C.

Description: § 205(d) Rate Filing: Amendment to ISA, SA No. 1442; Queue No. NQ-123 to be effective 4/9/2023.

Filed Date: 2/8/24.

Accession Number: 20240208-5086.

Comment Date: 5 p.m. ET 2/29/24.

Docket Numbers: ER24-1216-000.

Applicants: Duke Energy Florida, LLC.

Description: § 205(d) Rate Filing: DEF-Bartow-FPL Dynamic Transfer Agmt RS No. 426 to be effective 3/1/2024.

Filed Date: 2/8/24.

Accession Number: 20240208-5095.

Comment Date: 5 p.m. ET 2/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 8, 2024.
Debbie-Anne A. Reese,
Acting Secretary.

[FR Doc. 2024-03051 Filed 2-13-24; 8:45 am]

BILLING CODE 6717-01-P